DEPARTMENT OF COMMERCE

International Trade Administration

[A-570-040]

Truck and Bus Tires From the People's Republic of China: Postponement of Preliminary Determination of Antidumping Duty Investigation

AGENCY: Enforcement and Compliance, International Trade Administration, Department of Commerce.

DATES: Effective Date: June 2, 2016.

FOR FURTHER INFORMATION CONTACT: Yang Jin Chun or Andre Gziryan, AD/CVD Operations Office I, Enforcement and Compliance, International Trade Administration, U.S. Department of Commerce, 1401 Constitution Avenue NW., Washington, DC 20230; telephone: (202) 482-5760 and (202) 482-2201, respectively.

SUPPLEMENTARY INFORMATION:

Background

On February 18, 2016, the Department of Commerce (the Department) initiated the antidumping duty investigation of truck and bus tires from the People's Republic of China.¹ The Initiation Notice stated that the Department would issue its preliminary determination for this investigation no later than 140 days after the date of the initiation in accordance with section 733(b)(1)(A) of the Tariff Act of 1930, as amended (the Act), and 19 CFR 351.205(b)(1), unless postponed.²

¹ See Truck and Bus Tires From the People's Republic of China: Initiation of Antidumping Duty Investigation, 81 FR 9434 (February 25, 2016) (Initiation Notice).

² Id., 81 FR at 9438.

Period of Investigation

The period of investigation is July 1, 2015, through December 31, 2015.

Postponement of Preliminary Determination

Section 733(c)(1)(A) of the Act permits the Department to postpone the time limit for the preliminary determination if it receives a timely request from the petitioner for postponement. The Department may postpone the preliminary determination under section 733(c)(1) of the Act no later than 190 days after the date on which the administering authority initiates an investigation.

On May 20, 2016, United Steel, Paper and Forestry, Rubber, Manufacturing, Energy, Allied Industrial and Service Workers International Union, AFL-CIO, CLC (the petitioner) made a timely request under 19 CFR 351.205(e) for a 50-day postponement of the preliminary determination of this investigation.³ The petitioner states that a postponement is necessary given a very large number of separate rate applications and the need for additional time to analyze responses from the two selected respondents.⁴

³ See Truck and Bus Tires from the People's Republic of China (A-570-040): Petitioner's Request to Extend the Preliminary Determination dated May 20, 2016.

⁴ Id.

For the reasons stated above, and because there are no compelling reasons to deny the petitioner's request, the Department is fully postponing the preliminary determination of this investigation in accordance with section 733(c)(1)(A) of the Act and 19 CFR 351.205(b)(2) and (e) to August 26, 2016. The deadline for the final determination will continue to be 75 days after the date of the preliminary determination, unless extended.

This notice is issued and published pursuant to section 733(c)(2) of the Act and 19 CFR 351.205(f)(1).

Dated: May 26, 2016.
Paul Piquado,
Assistant Secretary For Enforcement and Compliance.

[FR Doc. 2016-13044 Filed 6-1-16; 8:45 am]

BILLING CODE 3510-DS-P